SECURITIES AND EXCHANGE COMMISSION

[OMB Control No. 3235-0375]

Agency Information Collection Activities; Proposed Collection; Comment Request; Extension: Schedule 13E-4F

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (“Commission”) is soliciting comments on the collection of information summarized below. The Commission plans to submit this existing collection of information to the Office of Management and Budget for extension and approval.

Schedule 13E-4F (17 CFR 240.13e-102) may be used by a Canadian foreign private issuer to make a cash tender or exchange offer for the Canadian issuer's own securities if less than 40 percent of the class of securities subject to the offer is held by U.S. holders. Schedule 13E-4F is designed to provide U.S. investors in relevant Canadian securities with adequate information concerning the cash tender or exchange offer, the Canadian foreign private issuer, and the securities subject to the offer so that investors can make informed voting and investment decisions. We estimate that Schedule 13E-4F takes approximately 3.33 hours per response to prepare and that approximately 1 response is made per year. We estimate that 100% of the burden is carried out internally by the Canadian issuer. Based on our estimates, we calculate a total annual reporting burden of 3 hours ((3.33 hours per response × 100%) × 1 response per year), when rounded to the nearest dollar. Because we estimate that 100% of the burden will be carried internally by the issuer, we estimate that there is no cost burden associated with Schedule 13E-4F.

An agency may not conduct or sponsor, and a person is not required to respond to, a collection of information unless it displays a currently valid OMB control number.

Written comments are invited on: (a) whether this proposed collection of information is necessary for the proper performance of the functions of the agency, including whether the information will have practical utility; (b) the accuracy of the agency's estimate of the burden imposed by the collection of information; (c) ways to enhance the quality, utility, and clarity of the information collected; and (d) ways to minimize the burden of the collection of information on respondents, including through the use of automated collection techniques or other forms of information technology.

Please direct your written comments on this 60-Day Collection Notice to Austin Gerig, Director/Chief Data Officer, Securities and Exchange Commission, c/o Tanya Ruttenberg via email to PaperworkReductionAct@sec.gov by March 16, 2026. There will be a second opportunity to comment on this SEC request following the Federal Register publishing a 30-Day Submission Notice.

Dated: January 8, 2026.
Sherry R. Haywood,
Assistant Secretary.

[FR Doc. 2026-00410 Filed 1-12-26; 8:45 am]

BILLING CODE 8011-01-P